ENVIRONMENTAL PROTECTION AGENCY

[EPA-HQ-OAR-2007-1196; FRL-8551-8]

Recent Postings of Broadly Applicable Alternative Test Methods

AGENCY: Environmental Protection Agency (EPA).

ACTION: Notice of availability.

SUMMARY: This notice announces the broadly applicable alternative test method approval decisions the EPA has made under and in support of New Source Performance Standards (NSPS) and the National Emission Standards for Hazardous Air Pollutants (NESHAP) in 2007.

FOR FURTHER INFORMATION CONTACT: An electronic copy of each alternative test method approval document is available on EPA's Web site at http://www.epa.gov/ttn/emc/approalt.html. For questions about this notice, contact Jason M. DeWees, Air Quality Assessment Division, Office of Air Quality Planning and Standards (E143-02), Environmental Protection Agency, Research Triangle Park, NC 27711; telephone number: 919-541-9724; fax number: 919-541-0516; e-mail address: dewees.jason@epa.gov. For technical questions about individual alternative test method decisions, refer to the contact person identified in the individual approval documents.

SUPPLEMENTARY INFORMATION:

I. General Information

A. Does this Notice Apply to Me?

This notice will be of interest to entities regulated under 40 CFR parts 60, 61, and 63, and State, local, Tribal agencies, and EPA Regional Offices responsible for implementation and enforcement of regulations under 40 CFR parts 60, 61, and 63.

B. How Can I Get Copies Of this Information?

You may access copies of the broadly applicable alternative test method approval documents from the EPA's Web site at http://www.epa.gov/ttn/emc/approalt.html.

II. Background

This notice identifies EPA's broadly applicable alternative test method approval decisions issued between February 1, 2007, and December 31, 2007, under the New Source Performance Standards (NSPS), 40 part 60, and the National Emission Standards for Hazardous Air Pollutants (NESHAP), 40 CFR parts 61 and 63 (see Table 1). Source owners and operators may voluntarily use these broadly applicable alternative test methods. Use of these broadly applicable alternative test methods does not change the applicable emission standards.

As explained in a previous Federal Register notice published at 72 FR 4257, 1/30/07, the EPA Administrator has the authority to approve the use of alternative test methods to comply with requirements under 40 CFR parts 60, 61, and 63. This authority is found in sections 60.8(b)(3), 61.13(h)(1)(ii), and 63.7(e)(2)(ii). Over the years, we have performed thorough technical reviews of numerous requests for alternatives and modifications to test methods and procedures. Based on these experiences, we have found that often these changes or alternatives would be equally valid and appropriate to apply to other sources within a particular class, category, or subcategory. Consequently, we have concluded that where a method modification or a change or alternative is clearly broadly applicable to a class, category, or subcategory of sources, it is both more equitable and efficient to approve its use for all appropriate sources and situations at the same time. It is important to clarify that alternative methods are not mandatory but permissive. Sources are not required to employ such a method but may choose to do so in appropriate cases. By electing to use an alternative method, the source owner or operator consents to thereafter demonstrating compliance with applicable requirements based on the results of the alternative method until approved to do so otherwise. The criteria for approval and procedures for submission and review of broadly applicable alternative test methods are outlined at 72 FR 4257, 1/30/07. EPA will continue to announce approvals for broadly applicable alternative test methods on the EPA's Web site http://www.epa.gov/ttn/emc/approalt.html and intends to publish a notice annually that summarizes approvals for broadly applicable alternative test methods.

This notice comprises a summary of six such approval documents added to our technology transfer network from February 1, 2007, through December 31, 2007. The alternative test number, the reference method affected, sources affected, and modification or alternative method allowed are listed in Table 1 of this notice. Complete copies of these approval documents can be obtained from the EPA's Web site at http://www.epa.gov/ttn/emc/approalt.html. If you are aware of reasons why a particular alternative test method approval that we issue should not be broadly applicable, we request that you make us aware of the reasons within 60 days of the Federal Register notice announcing the broad approval, and we will revisit the broad approval. Any objection to a broadly applicable alternative test method as well as the resolution of that objection will be announced on the EPA's Web site http://www.epa.gov/ttn/emc/approalt.html and in the subsequent Federal Register notice. If we should decide to retract a broadly applicable test method, we would continue to grant case-by-case approvals, as appropriate, and would (as States, local and Tribal agencies and EPA Regional Offices should) consider the need for an appropriate transition period for users either to request case-by-case approval or to transition to an approved method.

Dated: March 28, 2008.
Jennie N. Edmonds,
Acting Director, Office of Air Quality Planning and Standards.

TABLE 1.—Approved Alternative Test Methods and Modifications To Test Methods Under Appendices A or B In CFR 60, 61, and 63 Made Between February 2007 and December 2007
Alternative No. | As an alternative or modification to . . . | For . . . | You may . . .
Alt-032 | Default thermal efficiency values in Subpart AAA in § 60.536(i)(3). | Wood Stoves affected under the NSPS for Residential Wood Heaters in 40 CFR part 60, subpart AAA. | Use CSA B415.1 test protocol for determination of actual thermal efficiency rating in lieu of default values.
Alt-034 | Method 23—Determination of Polychlorinated Dibenzo-p dioxins and Polychlorinated Dibenzofurans from Municipal Waste Combustors. | Sources subject to 40 CFR part 63, subpart RRR, National Emission Standards for Hazardous Air Pollutants for Secondary Aluminum Production. | Omit the sample gas filtration temperature sensor; Omit the methylene chloride rinse; and Use a Teflon coated stainless steel nozzle in gas streams less than 290°C (554°F).
Alt-035 | Method 308—Procedure for Determination of Methanol Emission from Stationary Sources. | Sources subject to 40 CFR part 63, subpart S, National Emission Standards for Hazardous Air Pollutants from the Pulp and Paper Industry. | Use NCASI Method CI/SG/PULP-94.03 in lieu of Method 308.
Alt-036 | Method 23—Determination of Polychlorinated Dibenzo-p dioxins and Polychlorinated Dibenzofurans from Municipal Waste Combustors. | Sources subject to 40 CFR part 63, subpart LLL—National Emission Standards for Hazardous Air Pollutants from the Portland Cement Manufacturing Industry. | Substitute the toluene rinse for the methylene chloride rinse; and Combine all fractions including the toluene rinse before analysis.
Alt-037 | Method 18—Measurement of Gaseous Organic Compound Emissions by Gas Chromatography. | Sources subject to 40 CFR part 63, subpart GGG, National Emissions Standards for Hazardous Air Pollutants for Pharmaceutical Production. | Use Method 320 in lieu of Method 18 to demonstrate by definition (§ 63.536) that a vent is not a process vent because it is emitting less than 50 ppmv of HAPs.
Alt-038 | Method 18—Measurement of Gaseous Organic Compound Emissions by Gas Chromatography. | Sources subject to 40 CFR part 63, subpart UUUU—National Emission Standards for Hazardous Air Pollutants for Cellulose Products Manufacturing. | Use Method 320 in lieu of Method 18 to demonstrate compliance with 40 CFR part 63, subpart UUUU.

[FR Doc. E8-7199 Filed 4-4-08; 8:45 am]

BILLING CODE 6560-50-P